DEPARTMENT OF ENERGY

Federal Energy Regulatory Commission

[Docket No. ER00-2566-001

New England Power Company, Massachusetts Electric Company and The Narragansett Electric Company; Notice of Filing

June 28, 2000.

Take notice that on June 27, 2000, New England Power Company, Massachusetts Electric Company and The Narragansett Electric Company submit for filing an amendment to their May 19, 2000 filing in this docket. The amendment consists of a revised Attachment E to the May 19 filing deleting a reference to Eastern Edison Company, Rate Schedule No. 58 in the Notice of Succession for Massachusetts Electric Company.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before July 10, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-222 for asssistance).

Linwood A. Watson, Jr.,
Acting Secretary.

[FR Doc. 00-16841 Filed 7-3-00; 8:45 am]

BILLING CODE 6717-01-M